DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 3, 2000.

Interested persons are invited to submit written comments regarding the subject matter of the investigations to the Director, Division of Trade Adjustment Assistance, at the address shown below, not later than August 3, 2000.

The petitions filed in this case are available for inspection at the Office of the Director, Division of Trade Adjustment Assistance, Employment and Training Administration, U.S. Department of Labor, 2000 Constitution Avenue, NW., Washington, D.C. 20210.

Signed at Washington, DC this 10th day of July, 2000.
Grant D. Beale,
Program Manager, Division of Trade Adjustment Assistance.

Appendix
[Petitions instituted on 7/10/2000]
TA-W | Subject firm (petitioners) | Location | Date of petition | Product(s)
37,853 | VF Workwear/Horace Small (Comp) | Bassfield, MS | 06/22/2000 | Men's Work Clothing.
37,854 | P.H. Glatfelter (Wrks) | Pisgah Forest, NC | 06/20/2000 | Cigarette Paper.
37,855 | Graphic Vinyl Products (Wrks) | Newark, NJ | 06/20/2000 | Letter Size Folders.
37,856 | Seagate Technology, (Comp) | Anaheim, CA | 06/06/2000 | Substrates—Components of Disc Drives.
37,857 | Optimum Air Corp., (Wrks) | Malta, NY | 06/25/2000 | Dehumidification Systems.
37,858 | Shape Global Technology (Comp) | Kennebunk, ME | 06/28/00 | Video, Audio and Computer Products.
37,859 | Hurwitz Co. (UERM) | Buffalo, NY | 06/15/2000 | Baled Iron and Steel.
37,860 | Weatherford Global (Comp) | Midland, TX | 06/21/2000 | Packages and Rents Oilfield Equipment.
37,861 | Thermadyne (Wrks) | Gallman, MS | 06/21/2000 | Welding and Cutting Tip.
37,862 | K and R Sportswear (Comp) | Spring Hope, NC | 06/21/2000 | Children's Swimwear.
37,863 | Morton Forest Products (Comp) | Morton, WA | 06/19/2000 | Lumber.
37,864 | Weinmann, Inc. (Comp) | Olney, IL | 06/22/2000 | Aluminum Wheel Rims—Bicycles.
37,865 | ITT Industries, FHS (Comp) | Tawas City, MI | 06/24/2000 | Vacuum Harnesses—Automotive Parts.
37,866 | Assembly Services, Inc (Wrks) | El Paso, TX | 06/26/2000 | Brooms and Mops.
37,867 | WP Industries (Wrks) | South Gate, CA | 06/20/2000 | Pottery.
37,868 | American Meter Co (IUE) | Erie, PA | 06/26/2000 | Radial Flow Valves.
37,869 | Johnson Controls, Inc. (IBEW) | Goshen, IN | 06/29/2000 | Machining Equip—Air Conditioning, Heat.
37,870 | Standard Ceramics, Inc (Wrks) | Niagara Falls, NY | 06/28/0000 | Silicon Carbide.
37,871 | Robinson Fiddler's Green (IUE) | Springville, NY | 06/28/2000 | Household Cutlery Utensils.
37,872 | Chipman-Union, Inc (Comp) | Belmont, NC | 06/28/2000 | Socks.
37,873 | Springs Industries, Inc (Comp) | Griffin, GA | 06/24/2000 | Baby Apparel.
37,874 | Frink America, Inc. (IAMAW) | Clayton, NY | 06/15/2000 | Snow Plows and Components.
37,875 | Personal Products Co (Comp) | Wilmington, IL | 06/28/2000 | Feminine Hygiene & Incontinence Prod.
37,876 | ITT Industries (Co.) | Oscoda, MI | 06/24/2000 | Automotive Fuel Systems.

[FR Doc. 00-18608 Filed 7-21-00; 8:45 am]

BILLING CODE 4510-30-M